DEPARTMENT OF TRANSPORTATION

Federal Aviation Administration

RTCA Special Committee 135/EUROCAE Working Group 14: Environmental Conditions and Test Procedures for Airborne Equipment

AGENCY: Federal Aviation Administration (FAA), DOT.

ACTION: Notice of RTCA Special Committee 135/EUROCAE Working Group 14 meeting.

SUMMARY: The FAA is issuing this notice to advise the public of a meeting of RTCA Special Committee 135/Eurocae Working Group 14: Environmental Conditions and Test Procedures for Airborne Equipment.

DATES: The meeting will be held November 12-14, 2003 starting at 9 am.

ADDRESSES: The meeting will be held at RTCA Inc., 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org, (2) Jim Lyle at Embry Riddle; telephone (520) 708-3833; e-mail lyallj@erau.edu.

SUPPLEMENTARY INFORMATION: Pursuant to section 10(a)(2) of the Federal Advisory Committee Act (Pub. L. 92-463, 5 U.S.C., Appendix 2), notice is hereby given for a Special Committee 135 meeting. The agenda will include:

• November 12-14:

• Opening Plenary Session (Welcome and Introductory Remarks, Recognize Federal Representative, Approve Minutes of Previous Meeting)

• Review Table of Changes

• Review Change Proposals and Drafts for Section 16.

• Review Change Proposals and Drafts for Sections 20 and 21.

• Review Change Proposals and Drafts for all other sections.

• Review Schedule for DO-160E, Environmental Conditions and Test Procedures for Airborne Equipment.

• Closing Plenary Session (Debrief of Subgroup Meetings, New/Unfinished Business, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 15, 2003.
Robert Zoldos,
FAA System Engineer, RTCA Advisory Committee.

[FR Doc. 03-27180 Filed 10-27-03; 8:45 am]

BILLING CODE 4910-13-M